ENVIRONMENTAL PROTECTION AGENCY

40 CFR Parts 79 and 80

[EPA-HQ-OAR-2016-0041; FRL-9957-45-OAR]

RIN 2060-AS66

Renewables Enhancement and Growth Support Rule; Extension of Comment Period

AGENCY: Environmental Protection Agency (EPA).

ACTION: Proposed rule; extension of public comment period.

SUMMARY: On November 16, 2016, the Environmental Protection Agency (EPA) proposed the Renewables Enhancement and Growth Support (REGS) rule. The proposal specified that the public comment period would end on January 17, 2017, 60 days after publication in the Federal Register. On December 9, 2016, the EPA received a joint request for an extension of the comment period from the following parties: American Soybean Association, Corn Refiners Association, Global Renewable Strategies and Consulting, LLC, Growth Energy, Iowa Biodiesel Board, Iowa Renewable Fuels Association, National Biodiesel Board, National Renderers Association, Renewable Fuels Association, and U.S. Canola Association. The petitioners requested an extension in order to have more time to evaluate the implications of the REGS rule. In light of the large number of revisions proposed in this action, the EPA is extending the deadline for written comments on the proposal by 30 days to February 16, 2017.

DATES: Comments must be received on or before February 16, 2017.

ADDRESSES: Submit your comments on the proposed REGS rule, identified by Docket ID No. EPA-HQ-OAR-2016-0041, at http://www.regulations.gov. Follow the online instructions for submitting comments. Once submitted, comments cannot be edited or withdrawn from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Julia MacAllister, Assessment and Standards Division, Office of Transportation and Air Quality, Environmental Protection Agency, 2000 Traverwood Drive, Ann Arbor, MI 48105; telephone number: (734) 214-4131; email address: macallister.julia@epa.gov.

SUPPLEMENTARY INFORMATION: The EPA proposed rule was published on November 16, 2016, at 81 FR 80828. For the reasons stated, the public comment period will now end on February 16, 2017.

Dated: December 20, 2016.
Christopher Grundler,
Director, Office of Transportation and Air Quality.

[FR Doc. 2016-31263 Filed 12-23-16; 8:45 am]

BILLING CODE 6560-50-P